DEPARTMENT OF COMMERCE

National Oceanic and Atmospheric Administration

[I.D. 032200B]

Endangered Species; Permits

AGENCY: National Marine Fisheries Service (NMFS), National Oceanic and Atmospheric Administration (NOAA), Commerce.

ACTION: Receipt of an application for a scientific research permit (1247); issuance of modifications to existing permits (1051, 1189).

SUMMARY: Notice is hereby given of the following actions regarding permits for takes of endangered and threatened species for the purposes of scientific research and/or enhancement:

NMFS has received a permit application from Mr. Tom Savoy, of the Connecticut Department of Environmental Protection (CTDEP) (1247); and NMFS has issued modifications to scientific research permits to Mr. Jorgen Skjeveland, of the U.S. Fish and Wildlife Service (JS-FWS) (1051) and Dr. James Kirk, of the Corps of Engineers Waterways Experiment Station (COE-WES) (1189).

DATES: Comments or requests for a public hearing on the new application must be received at the appropriate address or fax number (see ADDRESSES) no later than 5:00pm eastern standard time on May 1, 2000.

ADDRESSES: Written comments on the new application should be sent to the Office of Protected Resources, Endangered Species Division, F/PR3, 1315 East-West Highway, Silver Spring, MD 20910. Comments may also be sent via fax to 301-713-0376. Comments will not be accepted if submitted via e-mail or the internet. The application and related documents are available for review by appointment in the Office of Protected Resources, F/PR3, NMFS, 1315 East-West Highway, Silver Spring, MD 20910-3226 (301-713-1401).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on the application listed in this notice should set out the specific reasons why a hearing on the application would be appropriate (see ADDRESSES). The holding of such hearing(s) is at the discretion of the Assistant Administrator for Fisheries, NOAA. All statements and opinions contained in the permit action summaries are those of the applicant and do not necessarily reflect the views of NMFS.

Species Covered in this Notice

The following species is covered in this notice: shortnose sturgeon (Acipenser brevirostrum).

New Application Received

CTDEP (1247) has requested a 5-year permit for annual lethal takes of up to 300 shortnose sturgeon spawned eggs and larvae; annually capture, examine, collect stomach contents samples via gastric lavage, PIT tag, and release up to 400 adult and 100 juvenile sturgeon; and implant sonic tags in up to 25 adult sturgeon annually. The research proposes to determine general seasonal movements and fine scale diurnal movement patterns as well as food habits and prey preferences of shortnose sturgeon in the Connecticut River below Holyoke Dam.

Permit Modifications Issued

Notice was published on October 22, 1999 (64 FR 57069), that JS-FWS had applied for a modification to permit 1051. Modification #2 to permit 1051 was issued on March 21, 2000, and authorizes the deployment of an additional 15 sonic tags on 15 of the shortnose sturgeon captured from the Delaware River, and to change the tagging methodology from external to completely internal. The purpose of the sonic tagging is to determine if there is migration back and forth via the Chesapeake and Delaware Canal. The sturgeon will be measured, tagged, have tissues sampled and released. Modification #2 to Permit 1051 is valid for the duration of the permit, which expires May 31, 2002.

Modification #1 to Permit 1189 was issued to COE-WES on March 21, 2000, and authorizes the addition of baited trotlines as a sampling method for shortnose sturgeon, thus increasing the effectiveness of seasonal sampling. Modification #1 to Permit 1189 is valid for the duration of the permit, which expires December 31, 2002.

Dated: March 23, 2000.
Wanda L. Cain,
Chief, Endangered Species Division, Office of Protected Resources, National Marine Fisheries Service.

[FR Doc. 00-7924 Filed 3-29-00; 8:45 am]

BILLING CODE 3510-22-F